DEPARTMENT OF TRANSPORTATION

Federal Aviation Administration

[Summary Notice No. PE-2000-41]

Petition for Exemption; Summary of Petition Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR Part 11), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before September 21, 2000.

ADDRESSES: Sent comments on any petition in triplicate to: Federal Aviation Administration, Office of the Chief Counsel, Attn: Rule Docket (AGC-200), Petition docket No. _____, 800 Independence Avenue, SW, Washington, DC 20591.

The petition, any comments received, and a copy of any final disposition are filed in the assigned regulatory docket and are available for examination in the Rules Docket (AGC-200), Room 915G, FAA Headquarters Building (FOB 10A), 800 Independence Avenue, SW, Washington, DC 20591; telephone (202) 267-3132.

FOR FURTHER INFORMATION CONTACT: Cherie Jack (202) 267-7271; Forest Rawls (202) 267-8033, or Vanessa Wilkins (202) 267-8029, Office of Rulemaking (ARM-1), Federal Aviation Administration, 800 Independence Avenue, SW, Washington, DC 20591.

This notice is published pursuant to paragraphs (c), (e), and (g) of § 11.27 of Part 11 of the Federal Aviation Regulations (14 CFR Part 11).

Issued in Washington, DC, on August 28, 2000.
Joseph A. Conte,
Acting Assistance Chief Counsel for Regulations.

Dispositions of Petitions

Docket No.: 30146.

Petitioner: Frontier Flying Service, Inc.

Section of the FAR Affected: 14 CFR 119.67(a)(3)(i).

Description of Relief Sought/Disposition: To permit Mr. Hajdukovich to serve as Director of Operations of FFS without having at least 3 years experience, within the last 6 years, as pilot in command of a large airplane operated under part 121 or part 135.

Denial, 08/07/00, Exemption No. 7304

Docket No.: 30134.

Petitioner: Punxsutawney Municipal Airport Authority.

Section of the FAR Affected: 14 CFR 135.251, 135.255, 135.353, and appendixes I and J to part 121.

Description of Relief Sought/Disposition: To permit PMAA to conduct local sightseeing flights at Punxsutawney Airport for its two-day annual airport awareness days event in August 2000, for compensation or hire, without complying with certain anti-drug and alcohol misuse prevention requirements of part 135.

Grant, 08/01/00, Exemption No. 7294

Docket No.: 30127.

Petitioner: South Haven Area Regional Airport Authority and the South Haven Rotary Club.

Section of the FAR Affected: 14 CFR 135.251, 135.255, 135.353, and appendixes I and J to part 121.

Description of Relief Sought/Disposition: To permit SHARAA and SHRC to conduct local sightseeing flights at South Haven Area Regional Airport for a one-day Fly-In Breakfast in August 2000, for compensation or hire, without complying with certain anti-drug and alcohol misuse prevention requirements of part 135.

Grant, 08/01/00, Exemption No. 7293

Docket No.: 30111.

Petitioner: Ketchum Air Service, Inc.

Section of the FAR Affected: 14 CFR 135.143(c)(2).

Description of Relief Sought/Disposition: To permit Ketchum to operate certain aircraft under part 135 without a TSO-C112 (Mode S) transponder installed in the aircraft.

Grant, 08/02/00, Exemption No. 7300

Docket No.: 30096.

Petitioner: American Air Network, Inc.

Section of the FAR Affected: 14 CFR 135.143(c)(2).

Description of Relief Sought/Disposition: To permit AAN to operate certain aircraft under part 135 without a TSO-C112 (Mode S) transponder installed in the aircraft.

Grant, 08/02/00, Exemption No. 7299

Docket No.: 30091.

Petitioner: Fresh Water Adventures, Inc.

Section of the FAR Affected: 14 CFR 135.143(c)(2).

Description of Relief Sought/Disposition: To permit Fresh Water to operate certain aircraft under part 135 without a TSO-C112 (Mode S) transponder installed in the aircraft.

Grant, 08/02/00, Exemption No. 7298

Docket No.: 29611.

Petitioner: Kent State University Flight Operations.

Section of the FAR Affected: 14 CFR 135.251, 135.255, 135.353, and appendixes I and J to part 121.

Description of Relief Sought/Disposition: To permit Kent State to conduct local sightseeing flights in the vicinity of Stow, Ohio, for its one-day Community Aviation Day event in September 2000, for compensation or hire, without complying with certain anti-drug and alcohol misuse prevention requirements of part 135.

Grant, 08/02/00, Exemption No. 7297

Docket No.: 30117.

Petitioner: Robert Stone.

Section of the FAR Affected: 14 CFR 135.251, 135.255, 135.353, and appendixes I and J to part 121.

Description of Relief Sought/Disposition: To permit Mr. Stone to conduct local sightseeing flights in the vicinity of Brookville, Ohio, for a charitable event in August 2000, for compensation or hire, without complying with certain anti-drug and alcohol misuse prevention requirements of part 135.

Grant, 08/07/00, Exemption No. 7302

Docket No.: 30118.

Petitioner: Mt. Sterling Aviation Association-EAA Chapter #1227.

Section of the FAR Affected: 14 CFR 135.251, 135.255, 135.353, and appendixes I and J to part 121.

Description of Relief Sought/Disposition: To permit Mt. Sterling to conduct local sightseeing flights at Mt. Sterling-Montgomery County Airport for its one-day airshow event in August 2000, for compensation or hire, without complying with certain anti-drug and alcohol misuse prevention requirements of part 135.

Grant, 08/07/00, Exemption No. 7301

Docket No.: 28672.

Petitioner: Alaska Airlines, Inc.

Section of the FAR Affected: 14 CFR 121.709(b)(3).

Description of Relief Sought/Disposition: To permit Alaska Airlines' flight crewmembers who hold current pilot certificates to install and/or remove medevac stretchers in Alaska Airlines aircraft.

Grant, 07/31/00, Exemption No. 6603B

[FR Doc. 00-22369 Filed 8-30-00; 8:45 am]

BILLING CODE 4910-13-M